DEPARTMENT OF HEALTH AND HUMAN SERVICES

Administration for Children and Families

Office of Planning, Research and Evaluation; Grant to Metropolitan Family Services

AGENCY: Office of Planning, Research and Evaluation, Administration for Children and Families (ACF), Department of Health and Human Services (DHHS)

ACTION: Award announcement.

SUMMARY: Notice is hereby given that a noncompetitive grant award is being made to Metropolitan Family Services to strengthen the relationship between fathers and their children, increase their access to the labor force, improve their financial literacy, and strengthen their support systems.

As a Congressional set-aside, this 17-month project is being funded noncompetitively. Metropolitan Family Services is uniquely qualified to implement this project because of its decades long experience in providing services for strengthening families and communities. The cost of this 17-month project is $400,000.

FOR FURTHER INFORMATION CONTACT: K.A. Jagannathan, Administration for Children and Families, Office of Planning, Research and Evaluation, 370 L'Enfant Promenade, SW., Washington, DC 20447, telephone: 202-205-4829.

Dated: May 28, 2002.
Howard Rolston,
Director, Office of Planning, Research and Evaluation.

[FR Doc. 02-14320 Filed 6-6-02; 8:45 am]

BILLING CODE 4184-01-M